COMMITTEE FOR THE IMPLEMENTATION OF TEXTILE AGREEMENTS

Adjustment of Import Limits for Certain Cotton and Man-Made Fiber Textiles and Textile Products Produced or Manufactured in Indonesia

April 11, 2002.

AGENCY: Committee for the Implementation of Textile Agreements (CITA).

ACTION: Issuing a directive to the Commissioner of Customs adjusting limits.

EFFECTIVE DATE: April 18, 2002.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing and the adjustment allowed to certain apparel categories for traditional folklore products made of hand-loomed fabric.

A description of the textile and apparel categories in terms of HTS numbers is available in the CORRELATION: Textile and Apparel Categories with the Harmonized Tariff Schedule of the United States (see Federal Register notice 66 FR 65178, published on December 18, 2001). Also see 66 FR 63025, published on December 4, 2001.

J. Hayden Boyd,
Acting Chairman, Committee for the Implementation of Textile Agreements.

Committee for the Implementation of Textile Agreements

April 11, 2002.

Commissioner of Customs,

Department of the Treasury, Washington, DC 20229.

Dear Commissioner: This directive amends, but does not cancel, the directive issued to you on November 27, 2001, by the Chairman, Committee for the Implementation of Textile Agreements. That directive concerns imports of certain cotton, wool, man-made fiber, silk blend and other vegetable fiber textiles and textile products, produced or manufactured in Indonesia and exported during the twelve-month period which began on January 1, 2002 and extends through December 31, 2002

Effective on April 18, 2002, you are directed to adjust the limits for the categories listed below, as provided for under the Uruguay Round Agreement on Textiles and Clothing:

Category | Twelve-month restraint limit ¹
Levels in Group I |
225 | 7,879,716 square meters.
314-O ² | 79,331,784 square meters.
317-O ³/617/326-O ⁴ | 33,010,430 square meters of which not more than 5,173,219 square meters shall be in Category 326-O.
331pt./631pt. ⁵ | 1,421,897 dozen pairs.
334/335 | 348,819 dozen.
336/636 | 927,335 dozen.
338/339 | 1,708,744 dozen.
340/640 | 2,104,363 dozen.
341 | 1,308,067 dozen.
342/642 | 551,981 dozen.
345 | 611,939 dozen.
347/348 | 2,428,722 dozen.
351/651 | 717,576 dozen.
611-O ⁶ | 4,201,444 square meters.
613/614/615 | 33,108,300 square meters.
618-O ⁷ | 6,285,146 square meters.
625/626/627/628/629-O ⁸ | 32,183,798 square meters.
634/635 | 441,586 dozen.
638/639 | 2,188,541 dozen.
641 | 3,145,368 dozen.
644 | 655,506 numbers.
645/646 | 1,164,842 dozen.
647/648 | 4,813,871 dozen.
¹ The limits have not been adjusted to account for any imports exported after December 31, 2001.
² Category 314-O: all HTS numbers except 5209.51.6015.
³ Category 317-O: all HTS numbers except 5208.59.2085.
⁴ Category 326-O: all HTS numbers except 5208.59.2015, 5209.59.0015 and 5211.59.0015.
⁵ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.
⁶ Category 611-O: all HTS numbers except 5516.14.0005, 5516.14.0025 and 5516.14.0085.
⁷ Category 618-O: all HTS numbers except 5408.24.9010 and 5408.24.9040.
⁸ Category 625/626/627/628; Category 629-O: all HTS numbers except 5408.34.9085 and 5516.24.0085.

The Committee for the Implementation of Textile Agreements has determined that these actions fall within the foreign affairs exception to the rulemaking provisions of 5 U.S.C. 553(a)(1).

Sincerely,

J. Hayden Boyd,

Acting Chairman, Committee for the Implementation of Textile Agreements.

[FR Doc.02-9325 Filed 4-16-02; 8:45 am]

BILLING CODE 3510-DR-S